DEPARTMENT OF ENERGY

Federal Energy Regulatory Commission

[Docket No. RP03-50-000]

Enbridge Pipelines (KPC); Notice of Proposed Changes in FERC Gas Tariff

November 4, 2002.

Take notice that on October 31, 2002, Enbridge Pipelines (KPC) (KPC) tendered for filing to as part of its FERC Gas Tariff, First Revised Volume No. 1, the tariff sheets listed on Appendix A to the filing, to be made effective December 1, 2002.

KPC states that the purpose of the filing is to reflect the annual increase of $329,200 effective November 1, 2002 pursuant to Exhibit D of the Transok Lease as provided for in Section 15 of the General Terms and Conditions of its FERC Gas Tariff.

KPC states that copies of its transmittal letter and appendices have been mailed to all affected customers and interested state commissions.

Any person desiring to be heard or to protest said filing should file a motion to intervene or a protest with the Federal Energy Regulatory Commission, 888 First Street, NE, Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-28597 Filed 11-8-02; 8:45 am]

BILLING CODE 6717-01-P